DEPARTMENT OF HEALTH AND HUMAN SERVICES

Centers for Disease Control and Prevention

[60-Day-19-0739; Docket No. CDC-2019-0076]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposed information collection project titled CDC Oral Health Management Information System. The collection aims to monitor the performance of states funded to implement evidence-based prevention strategies to improve oral health, determine and tailor technical assistance to the states, and share quality improvement findings.

DATES: CDC must receive written comments on or before November 4, 2019.

ADDRESSES: You may submit comments, identified by Docket No. CDC-2019-0076 by any of the following methods:

• Federal eRulemaking Portal: Regulations.gov. Follow the instructions for submitting comments.

• Mail: Jeffrey M. Zirger, Information Collection Review Office, Centers for Disease Control and Prevention, 1600 Clifton Road NE, MS-D74, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

5. Assess information collection costs.

Proposed Project

CDC Oral Health Management Information System (OMB Control No. 0920-0739)—Revision—National Center for Chronic Disease Prevention and Health Promotion (NCCDPHP), Centers for Disease Control and Prevention (CDC).

Background and Brief Description

Tooth decay is one of the most common chronic conditions among children. More than 23% of children ages 2-11 have untreated decay, which can cause pain and infection and may lead to problems in eating, speaking, and learning. Children from low-income households are more than twice as likely to have untreated tooth decay as children from high-income households. Similar disparities exist for racial/ethnic minorities. By age 15, nearly 60% of all adolescents will have experienced dental decay. Approximately 51.7 million school hours annually are missed due to a dental problem or visit.

More than 40% of adults have felt pain in their mouth in the last year and more than $6 billion in productivity is lost each year. Among dentate adults aged 65 years and older, 25% have lost all their teeth. The nation spends $117.5 billion annually on costs related to dental care. Individuals and families bear much of the burden, spending $30 billion out-of-pocket on dental services, which ranks second only to prescription drug expenditures.

Most oral diseases and conditions are preventable. Underutilized evidence-based preventive interventions exist to prevent cavities and save money. They remain underutilized because implementation barriers exist such as: Lack of state basic capacity to support oral health; costs associated with sustaining preventive programs; low awareness of effectiveness and safety of interventions; and lack of dental insurance and access to clinical and community preventive services.

CDC seeks to improve the oral health of the nation by strengthening and enhancing state programs to monitor their population's oral health status and behaviors; reducing oral health disparities among high-risk groups; and supporting the development of effective programs. The Division of Oral Health provides $1.85 to $2.85 million in funding per state to 20 state health programs through Cooperative Agreement DP18-1810, State Actions to Improve Oral Health Outcomes for five years.

This information collection aims to enable CDC to monitor states' progress, tailor technical assistance, facilitate continuous quality improvement, and share findings. The request also revises the web-based platform to reduce the collection burden on states for several fields and monitor outcomes more efficiently, and revises the burden to reflect all of the forms in the platform rather than only the reporting form. The revision requests 1195 burden hours from the current 171 hours and extends the request for an additional three years.

Estimated Annualized Burden Hours
Type of respondents | Form name | Number of respondents | Number of responses per respondent | Average burden per response (in hours) | Total burden (in hours)
State Health Department | Action Plan | 20 | 1.33 | 12 | 319
| Program Information | 20 | 1.33 | 1 | 27
| Planning | 20 | 1.33 | 20 | 532
| Annual Performance Report | 20 | 1.33 | 24 | 638
| Financial Information | 20 | 1.33 | .5 | 13
| Resources | 20 | 1.33 | 2.25 | 60
Total Hours |  |  |  |  | 1,195

Jeffrey M. Zirger,
Lead, Information Collection Review Office, Office of Scientific Integrity, Office of Science, Centers for Disease Control and Prevention.

[FR Doc. 2019-19011 Filed 9-3-19; 8:45 am]

BILLING CODE 4163-18-P